ENVIRONMENTAL PROTECTION AGENCY

[EPA-HQ-OAR-2022-0706; FRL-10098-01-OAR]

Proposed Information Collection Request; Comment Request; Production, Import, Export, Recycling, Destruction, Transhipment, and Feedstock Use of Ozone-Depleting Substances (Renewal)

AGENCY: Environmental Protection Agency (EPA).

ACTION: Notice.

SUMMARY: The Environmental Protection Agency is planning to submit an information collection request (ICR), “Production, Import, Export, Recycling, Destruction, Transhipment, and Feedstock Use of Ozone-Depleting Substances” (EPA ICR No. 1432.38, OMB Control No. 2060-0170) to the Office of Management and Budget (OMB) for review and approval in accordance with the Paperwork Reduction Act. Before doing so, EPA is soliciting public comments on specific aspects of the proposed information collection as described below. This is a proposed extension of the ICR, which is currently approved through April 30, 2023. An Agency may not conduct or sponsor and a person is not required to respond to a collection of information unless it displays a currently valid OMB control number.

DATES: Comments must be submitted on or before October 24, 2022.

ADDRESSES: Submit your comments, referencing Docket ID No. EPA-HQ-OAR-2022-0706, online using www.regulations.gov (our preferred method), by email to a-and-r-docket@epa.gov or by mail to: EPA Docket Center, Environmental Protection Agency, Mail Code 28221T, 1200 Pennsylvania Avenue NW, Washington, DC 20460.

EPA's policy is that all comments received will be included in the public docket without change including any personal information provided, unless the comment includes profanity, threats, information claimed to be Confidential Business Information (CBI) or other information whose disclosure is restricted by statute.

FOR FURTHER INFORMATION CONTACT: Robert Burchard, Stratospheric Protection Division, (6205A), Environmental Protection Agency, 1200 Pennsylvania Ave. NW, Washington, DC 20460; telephone number: (202) 343-9126; email address: burchard.robert@epa.gov.

SUPPLEMENTARY INFORMATION: Supporting documents which explain in detail the information that EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the Paperwork Reduction Act, EPA is soliciting comments and information to enable it to: (i) evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register document to announce the submission of the ICR to OMB and the opportunity to submit additional comments to OMB.

Abstract: This ICR covers provisions under the Montreal Protocol on Substances that Deplete the Ozone Layer (Montreal Protocol) and Title VI of the CAA that establish limits on total U.S. production, import, and export of class I and class II ozone-depleting substances (or controlled substances). Production and import of class I controlled substances (chlorofluorocarbons and others) was phased out in the United States. The phaseout includes exceptions for essential uses, critical uses of methyl bromide, quarantine and pre-shipment uses of methyl bromide, previously used material, and material that will be transformed or destroyed. There are also regulations that restrict the use of class II controlled substances and require a gradual reduction in the production and consumption of these chemicals leading to their eventual phaseout. The class II controlled substance phaseout regulations include exceptions for previously used material and material that will be transformed or destroyed.

Form numbers: 5900-137, 5900-136, 5900-149, 5900-150, 5900-153, 5900-151, 5900-199, 5900-202, 5900-200, 5900-201, 5900-205, 5900-155, 5900-140, 5900-144, 5900-142, 5900-141, 5900-148, 5900-147, 5900-473, 5900-138, 5900-139, 5900-152, 5900-472, 5900-154, 5900-146.

Respondents/affected entities: Producers, importers, exporters, and certain users of ozone-depleting substances; methyl bromide applicators, distributors, and end users including commodity storage and quarantine users.

Respondent's obligation to respond: Mandatory (CAA sections 114, 603(b), and 604(d)(6)).

Estimated number of respondents: 1,174 (total).

Frequency of response: Quarterly, annually, and as needed.

Total estimated burden: 3,022 hours (per year). Burden is defined at 5 CFR 1320.03(b).

Total estimated cost: $375,086 (per year), includes $8,250 annualized capital or operation & maintenance costs.

Changes in estimates: There is an increase of 82 hours in the total estimated respondent burden compared with the ICR currently approved by OMB. This increase is a result of updated assumptions associated with recordkeeping requirements that are more consistent with other ICRs that cover similar recordkeeping activities (e.g., the HFC Allowance Allocation Program ICR, OMB Control No. 2060-0734).

Cynthia A. Newberg,
Director, Stratospheric Protection Division.

[FR Doc. 2022-18284 Filed 8-23-22; 8:45 am]

BILLING CODE 6560-50-P